DEPARTMENT OF TRANSPORTATION

Federal Aviation Administration

14 CFR Part 39

[Docket No. 2001-SW-74-AD; Amendment 39-12626; AD 2001-26-55]

RIN 2120-AA64

Airworthiness Directives; Eurocopter France Model AS350B, AS350B1, AS350B2, AS350BA, AS350B3, AS350C, AS350D, AS350D1, AS355E, AS355F, AS355F1, AS355F2, and AS355N Helicopters

AGENCY: Federal Aviation Administration, DOT.

ACTION: Final rule; request for comments.

SUMMARY: This document publishes in the Federal Register an amendment adopting Airworthiness Directive (AD) 2001-26-55, which was sent previously to all known U.S. owners and operators of Eurocopter France (ECF) Model AS350B, AS350B1, AS350B2, AS350BA, AS350B3, AS350C, AS350D, AS350D1, AS355E, AS355F, AS355F1, AS355F2, and AS355N helicopters by individual letters. This AD requires, before further flight and thereafter at specified intervals, visually checking the tail rotor blade (blade) skin for a crack and replacing any cracked blade before further flight. This AD is prompted by the discovery of cracks in the skin of a blade. The actions specified by this AD are intended to prevent failure of the blade, which could result in severe vibration, loss of the tail rotor gearbox (TGB), and subsequent loss of control of the helicopter.

DATES: Effective February 26, 2002, to all persons except those persons to whom it was made immediately effective by Emergency AD 2001-26-55, issued on December 27, 2001, which contained the requirements of this amendment.

Comments for inclusion in the Rules Docket must be received on or before April 12, 2002.

ADDRESSES: Submit comments in triplicate to the Federal Aviation Administration (FAA), Office of the Regional Counsel, Southwest Region, Attention: Rules Docket No. 2001-SW-74-AD, 2601 Meacham Blvd., Room 663, Fort Worth, Texas 76137. You may also send comments electronically to the Rules Docket at the following address: 9-asw-adcomments@faa.gov.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION: On December 27, 2001, the FAA issued Emergency AD 2001-26-55 for ECF Model AS350B, AS350B1, AS350B2, AS350BA, AS350B3, AS350C, AS350D, AS350D1, AS355E, AS355F, AS355F1, AS355F2, and AS355N helicopters which requires, before further flight and thereafter at specified intervals, visually checking each blade skin for a crack and replacing any cracked blade before further flight. That action was prompted by the discovery of cracks in the skin of a blade. This condition, if not detected, could result in failure of a blade, severe vibration, loss of the TGB, and subsequent loss of control of the helicopter.

The FAA has reviewed Eurocopter Alert Telex No. 05.00.40 and 05.00.38, dated December 17, 2001, which describes procedures for visually checking the blade for cracks on the blade pressure face and blade suction face and requires replacing the blade before further flight if a crack is discovered.

The Direction Generale de L'Aviation Civile (DGAC), which is the airworthiness authority for France, notified the FAA that an unsafe condition may exist on these helicopter models. The DGAC advises of a report where separation of a blade trailing edge section occurred due to crack growth in the blade skin. The unbalance caused by the loss of the blade section can cause the TGB to be torn off the tailboom. The DGAC classified the service telex as mandatory and issued AD No. T2001-640-089(A) and T2001-641-067(A), dated December 20, 2001, to ensure the continued airworthiness of these helicopters.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This unsafe condition is likely to exist or develop on other ECF Model AS350B, AS350B1, AS350B2, AS350BA, AS350B3, AS350C, AS350D, AS350D1, AS355E, AS355F, AS355F1, AS355F2, and AS355N helicopters of the same type designs. Therefore, the FAA issued Emergency AD 2001-26-55 to prevent failure of the blade, severe vibration, loss of the TGB, and subsequent loss of control of the helicopter. The AD requires, before further flight and thereafter before the first flight of each day or at intervals not to exceed 10 hours TIS, whichever occurs first, visually checking both sides (front and back) of each blade skin in the area of the trailing edge tab for a crack (see Area A of Figure 1 of this AD). Replacing any cracked blade is also required before further flight.

The visual check required by this AD may be performed by an owner/operator (pilot) holding at least a private pilot certificate and must be entered into the aircraft records showing compliance with the visual check requirements of paragraph (a) of this AD. However, if the owner/operator (pilot) is in doubt about the existence of a crack, an inspection with a magnifying glass must be accomplished by a mechanic. The short compliance time involved is required because the previously described critical unsafe condition can adversely affect the structural integrity and controllability of the helicopter. Therefore, the actions described previously are required before further flight and at the specified time intervals, and this AD must be issued immediately.

Since it was found that immediate corrective action was required, notice and opportunity for prior public comment thereon were impracticable and contrary to the public interest, and good cause existed to make the AD effective immediately by individual letters issued on December 27, 2001, to all known U.S. owners and operators of ECF Model AS350B, AS350B1, AS350B2, AS350BA, AS350B3, AS350C, AS350D, AS350D1, AS355E, AS355F, AS355F1, AS355F2, and AS355N helicopters. These conditions still exist, and the AD is hereby published in the Federal Register as an amendment to 14 CFR 39.13 to make it effective to all persons.

The FAA estimates that 653 helicopters of U.S. registry will be affected by this AD, that it will take approximately ¼ work hour per helicopter for each visual check, and that the average labor rate is $60 per work hour. Based on these figures, the total cost impact of the AD on U.S. operators is estimated to be $9795 to inspect the helicopter blade on each helicopter once.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-74-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-26-55 Eurocopter France: Amendment 39-12626. Docket No. 2001-SW-74-AD.

Applicability: Model AS350B, AS350B1, AS350B2, AS350BA, AS350B3, AS350C, AS350D, AS350D1, AS355E, AS355F, AS355F1, AS355F2, and AS355N helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required as indicated, unless accomplished previously.

To prevent failure of the tail rotor blade (blade), which could result in severe vibration, loss of the tail rotor gearbox, and subsequent loss of control of the helicopter, accomplish the following:

(a) Before further flight, and thereafter before the first flight of each day or at intervals not to exceed 10 hours time-in-service (TIS), whichever occurs first, visually check both sides (front and back) of each blade skin in the area of the trailing edge tab for a crack as shown in Area A of Figure 1 of this AD.

BILLING CODE 4910-13-U

(b) The visual check required by paragraph (a) of this AD may be performed by an owner/operator (pilot) holding at least a private pilot certificate, with a maintenance record entry made in the aircraft records to include this AD number and paragraph (a) compliance date and aircraft TIS; time next due for paragraph (a) compliance; and name, certificate number, and type of certificate held by the person performing the visual check.

(c) If in doubt about the existence of a crack in the blade skin, clean the area and then inspect with a 6× or higher magnifying glass.

(d) If a crack is visible in the caulking, remove the caulking with 200-grit abrasive paper, taking care not to sand the skin. Inspect the blade skin for a crack using a 6× or higher magnifying glass.

(e) If a crack is found in the blade skin, replace the blade with an airworthy blade before further flight.

Note 2: Eurocopter Alert Telex No. 05.00.40 and 05.00.38, dated December 17, 2001, pertains to the subject of this AD.

(f) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(g) Special flight permits will not be issued.

(h) This amendment becomes effective on February 26, 2002, to all persons except those persons to whom it was made immediately effective by Emergency AD 2001-26-55, issued December 27, 2001, which contained the requirements of this amendment.

Note 4: The subject of this AD is addressed in Direction Generale De L'Aviation Civile (France), AD No. T2001-640-089(A) and T2001-641-067(A), dated December 20, 2001.

Issued in Fort Worth, Texas, on January 17, 2002.
David A. Downey,
Manager, Rotorcraft Directorate, Aircraft Certification Service.

[FR Doc. 02-2424 Filed 2-8-02; 8:45 am]

BILLING CODE 4910-13-C